DEPARTMENT OF AGRICULTURE

Forest Service

Notice of Resource Advisory Committee Meeting

AGENCY: North Central Idaho Resource Advisory Committee, Grangeville, ID, USDA, Forest Service.

ACTION: Notice of meeting.

SUMMARY: Pursuant to the authorities in the Federal Advisory Committee Act (Pub. L. 92-463) and under the Secure Rural Schools and Community Self-Determination Act of 2000 (Pub. L. 110-343) the Nez Perce and Clearwater National Forests' North Central Idaho Resource Advisory Committee will meet Wednesday, May 27th, 2009 in Riggins, Idaho for a business meeting. The meeting is open to the public.

SUPPLEMENTARY INFORMATION: The business meeting on May 27th will be held at the Best Western Salmon Rapids Lodge in Riggins, Idaho, beginning at 10 a.m. (PST). Agenda topic will primarily be discussion and approval of potential projects. A public forum will begin at 3:15 p.m. (PST).

FOR FURTHER INFORMATION CONTACT: Laura A. Smith, Public Affairs Officer and Designated Federal Officer, at (208) 983-5143.

Dated: April 24, 2009.
Thomas K. Reilly,
Forest Supervisor.

[FR Doc. E9-10015 Filed 4-30-09; 8:45 am]

BILLING CODE 3410-11-M